DEPARTMENT OF HEALTH AND HUMAN SERVICES

Centers for Disease Control and Prevention

Disease, Disability, and Injury Prevention and Control Special Emphasis Panel (SEP); Meeting

Studies at the Animal-Human Interface of Influenza and Other Zoonotic Diseases in Vietnam, Funding Opportunity Announcement (FOA) IP11-005; The Incidence and Etiology of Influenza-Associated Community-Acquired Pneumonia in Hospitalized Persons Study, FOA IP11-011; Spectrum of Respiratory Pathogens in Acute Respiratory Tract Infection Among Children and Adults in India, FOA IP11-012; Influenza Vaccine Efficacy in Tropical and Developing Countries, FOA IP11-013; and Influenza and Other Respiratory Diseases in Southern Hemisphere, FOA IP11-014; initial review.

In accordance with Section 10(a)(2) of the Federal Advisory Committee Act (Pub. L. 92-463), the Centers for Disease Control and Prevention (CDC) announces the aforementioned meeting:

Time and Date: 8 a.m.-5 p. m., May 12, 2011 (Closed).

Place: Sheraton Gateway Hotel Atlanta Airport, 1900 Sullivan Road, Atlanta, Georgia 30337, Telephone: (770) 997-1100.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Studies at the Animal-Human Interface of Influenza and Other Zoonotic Diseases in Vietnam, FOA IP11-005; The Incidence and Etiology of Influenza-Associated Community-Acquired Pneumonia in Hospitalized Persons Study, FOA IP11-011; Spectrum of Respiratory Pathogens in Acute Respiratory Tract Infection Among Children and Adults in India, FOA IP11-012; Influenza Vaccine Efficacy in Tropical and Developing Countries, FOA IP11-013; and Influenza and Other Respiratory Diseases in Southern Hemisphere, FOA IP11-014, initial review.”

Contact Person for More Information: Gregory Anderson, M.S., M.P.H., Scientific Review Officer, CDC, 1600 Clifton Road, NE., Mailstop E60, Atlanta, Georgia 30333, Telephone: (404) 498-2293. The Director, Management Analysis and Services Office, has been delegated the authority to sign Federal Register notices pertaining to announcements of meetings and other committee management activities, for both the Centers for Disease Control and Prevention and the Agency for Toxic Substances and Disease Registry.

Dated: March 7, 2011.
Elaine L. Baker,
Director, Management Analysis and Services Office, Centers for Disease Control and Prevention.

[FR Doc. 2011-5626 Filed 3-10-11; 8:45 am]

BILLING CODE 4163-18-P